DEPARTMENT OF COMMERCE

International Trade Administration

A-570-846

Brake Rotors From the People's Republic of China: Notice of Extension of Time Limit for Preliminary Results of the Antidumping Duty Administrative Review

AGENCY: Import Administration, International Trade Administration, Department of Commerce.

EFFECTIVE DATE: December 18, 2008.

FOR FURTHER INFORMATION CONTACT: Brian Smith or Terre Keaton Stefanova, AD/CVD Operations, Office 2, Import Administration, International Trade Administration, U.S. Department of Commerce, 14th Street and Constitution Avenue, N.W., Washington, D.C. 20230; telephone; (202) 482-1766 or (202) 482-1280, respectively.

SUPPLEMENTARY INFORMATION:

Background

On June 4, 2008, the Department of Commerce (the Department) published in the Federal Register a notice of initiation of the administrative review of the antidumping duty order on brake rotors from the People's Republic of China (PRC) covering the period April 1, 2007, through March 31, 2008. See Initiation of Antidumping and Countervailing Duty Administrative Reviews and Requests for Revocation in Part, 73 FR 31813 (June 4, 2008). On June 25, 2008, the Department published a notice of revocation of the antidumping duty order on brake rotors from the PRC effective August 14, 2007 (see Brake Rotors From the People's Republic of China: Revocation of Antidumping Duty Order Pursuant to Second Five-year (Sunset) Review, 73 FR 36039 (June 25, 2008)). As a result of the revocation of the order, the period of review (POR) was changed from April 1, 2007, through March 31, 2008, to April 1, 2007, through August 13, 2007 (see June 27, 2009 Memorandum to The File titled “Change in the Period of Review”).

On July 29, 2008, we selected Longkou Haimeng Machinery Co., Ltd (Longkou Haimeng) and Yantai Winhere Auto-Part Manufacturing (Yantai Winhere) as the mandatory respondents in this administrative review. See the July 29, 2008, Memorandum from The Team to James Maeder, Office Director, titled “2007 Antidumping Duty Administrative Review of Brake Rotors from the People's Republic of China: Selection of Respondents for Individual Review.”

In July and August 2008, several companies, including Longkou Haimeng, timely withdrew their requests for review. We partially rescinded the review with respect to these companies. See Brake Rotors From the People's Republic of China: Notice of Partial Rescission of Antidumping Duty Administrative Review, 73 FR 53193 (September 15, 2008).

Extension of Time Limit of Preliminary Results

Section 751(a)(3)(A) of the Tariff Act of 1930, as amended (the Act), requires the Department to make a preliminary determination in an administrative review within 245 days after the last day of the anniversary month of an order or finding for which a review is requested. If it is not practicable to complete the review within this time period, section 751(a)(3)(A) of the Act allows the Department to extend this deadline to a maximum of 365 days. The deadline for the preliminary results of this review is currently December 31, 2008.

In this review, the interested parties have not submitted publicly available information (PAI) for consideration in valuing the factors of production in the preliminary results. Moreover, we have requested and received documentation from U.S. Customs and Border Protection (CBP) for certain entries made by exporter/producer combinations which are also included in this review to determine whether those entries are non-subject merchandise. Therefore, the Department requires additional time to obtain updated PAI and analyze the entry data from CBP. Thus, it is not practicable to complete this review within the original time limit. Therefore, the Department is partially extending the time limit for completion of the preliminary results from 245 days to 306 days, in accordance with section 751(a)(3)(A) the Act. The preliminary results are now due no later than March 2, 2009. The final results continue to be due 120 days after the publication of the preliminary results.

We are issuing and publishing this notice in accordance with section 751(a)(3)(A) of the Act and 19 CFR 351.213(h)(2).

Dated: December 11, 2008.
Stephen J. Claeys,
Deputy Assistant Secretary for Antidumping and Countervailing Duty Operations.

[FR Doc. E8-30111 Filed 12-17-08; 8:45 am]

BILLING CODE 3510-DS-S